ENVIRONMENTAL PROTECTION AGENCY

[EPA-HQ-OAR-2004-0450; FRL-9207-6; EPA ICR Number 2395.01; OMB Control Number 2060-NEW]

Agency Information Collection Activities; Submission to OMB for Review and Approval; Comment Request; Aerospace Manufacturing and Rework Industry Information Collection

AGENCY: Environmental Protection Agency (EPA).

ACTION: Notice.

SUMMARY: In compliance with the Paperwork Reduction Act (44 U.S.C. 3501 et seq.), this document announces that an Information Collection Request has been forwarded to the Office of Management and Budget for review and approval. This is a request for a new collection. The Information Collection Request, which is abstracted below, describes the nature of the information collection and its estimated burden and cost.

DATES: Additional comments may be submitted on or before October 28, 2010.

ADDRESSES: Submit your comments, referencing Docket ID No. EPA-HQ-OAR-2004-0450, to (1) EPA on-line using http://www.regulations.gov (our preferred method), or by mail to: EPA Docket Center, Environmental Protection Agency, Air and Radiation Docket Information Center, Mail Code 28221T, 1200 Pennsylvania Ave., NW., Washington, DC 20460, and (2) Office of Management and Budget (OMB) by mail to: Office of Information and Regulatory Affairs, OMB, Attention: Desk Officer for EPA, 725 17th Street, NW., Washington, DC 20503.

FOR FURTHER INFORMATION CONTACT: Kim Teal, Office of Air and Radiation, Office of Air Quality Planning and Standards, Mail Code E143-03, Research Triangle Park, North Carolina 27711; telephone number: (919) 541-5580; fax number: (919) 541-3470; e-mail address: teal.kim@epa.gov.

SUPPLEMENTARY INFORMATION: EPA has submitted the following Information Collection Request (ICR) to OMB for review and approval according to the procedures prescribed in 5 CFR 1320.12. On Tuesday, June 22, 2010 (75 FR 35454), EPA sought comments on this ICR pursuant to 5 CFR 1320.8(d). EPA received two comment letters during the comment period, which are addressed in the ICR. Any additional comments on this ICR should be submitted to EPA and OMB within 30 days of this notice.

EPA has established a public docket for this ICR under Docket ID No. EPA-HQ-OAR-2004-0450 which is available for on-line viewing at http://www.regulations.gov or in hard copy at the EPA Docket Center, Public Reading Room, EPA West, Room 3334, 1301 Constitution Avenue, NW., Washington, DC 20004. The normal business hours are 8:30 a.m. to 4:30 p.m., Monday through Friday, excluding Federal holidays. The telephone number for the Reading Room is 202-566-1744 and the telephone number for the Air and Radiation Docket is 202-566-1742.

Use EPA's electronic docket and comment system at http://www.regulations.gov to submit or view public comments, access the index listing of the contents of the docket and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI) or other information whose public disclosure is restricted by statute. For further information about the electronic docket, go to http://www.regulations.gov.

Title: Aerospace Manufacturing and Rework Industry Information Collection

ICR number: EPA ICR Number 2395.01, OMB Control Number 2060-NEW

ICR status: This ICR is for a new information collection activity. An Agency may not conduct or sponsor, and a person is not required to respond to, a collection of information, unless it displays a currently valid OMB control number. The OMB control numbers for EPA's regulations in Title 40 of the Code of Federal Regulations (CFR), after appearing in the Federal Register when approved, are listed in 40 CFR part 9, and are displayed either by publication in the Federal Register or by other appropriate means, such as on the related collection instrument or form, if applicable. The display of OMB control numbers in certain EPA regulations is consolidated in 40 CFR part 9.

Abstract: This ICR was developed specifically for aerospace manufacturing and rework facilities and has been tailored to the processes at aerospace facilities. Respondents may use an electronic submission approach that will be less burdensome for both the facilities that must respond and for EPA personnel who must compile the responses. Respondents are asked to complete simple forms from available information and no request is made to create or develop emission estimates from information in the literature.

Information is requested from approximately 1,000 aerospace manufacturing and rework facilities on general facility information, coatings and spray booth information, other process information (e.g., storage tanks, composite processing, etc.), emission control devices used at the facilities and their basic design and operating features, quantity of air emissions, pollution prevention programs at each facility, and information regarding startup and shutdown events. This information is necessary for EPA to adequately characterize residual risk at these facilities, to characterize emissions and control measures for operations not currently regulated, and to develop standards for new and existing aerospace facilities under section 112 of the Clean Air Act (CAA), if appropriate. The information will be collected from the electronic completion of simple forms, which will be compiled to develop a computer database.

The EPA is charged under section 112 of the CAA with developing national emission standards for 189 listed hazardous air pollutants (HAP). The Aerospace Manufacturing and Rework Facilities Maximum Achievable Control Technology (Aerospace MACT) standard (40 CFR 63, subpart GG), is a national emission standard for HAP developed under the authority of section 112(d) of the CAA. EPA is required to review each MACT standard and to revise them “as necessary (taking into account developments in practices, processes and control technologies)” no less frequently than every eight years. These reviews are commonly referred to as “technology reviews.” In addition, EPA is required to assess the risk remaining (residual risk) after implementation of each MACT standard and promulgate more stringent standards if they are necessary to protect public health. Under EPA's residual risk and technology review (RTR) program, EPA is addressing these two requirements concurrently. EPA is updating the information they currently possess and filling identified data gaps in that information in order to provide a thorough basis for the RTR efforts. The data collection effort will gather additional information to allow comprehensive and technically sound analyses that will form the basis for future rulemaking decisions. Responses to the ICR are mandatory under the authority of section 114 of the CAA.

Burden Statement: The one-time public reporting burden for this collection of information is estimated to average 228 hours per response. Burden means the total time, effort, or financial resources expended by persons to generate, maintain, retain, or disclose or provide information to or for a Federal agency. This includes the time needed to review instructions; develop, acquire, install and utilize technology and systems for the purposes of collecting, validating and verifying information, processing and maintaining information and disclosing and providing information; adjust the existing ways to comply with any previously applicable instructions and requirements which have subsequently changed; train personnel to be able to respond to a collection of information; search data sources; complete and review the collection of information; and transmit or otherwise disclose the information.

Respondents/Affected Entities: Owners or operators of existing aerospace manufacturing and rework facilities.

Estimated Number of Respondents: 1,000.

Frequency of Response: Once.

Estimated Total Annual Hour Burden: 227,700.

Estimated Total Annual Cost: $10,965,834 in labor costs and no annualized capital or O&M costs.

Changes in the Estimates: This is a new collection.

Dated: September 22, 2010.
John Moses,
Director, Collection Strategies Division.

[FR Doc. 2010-24291 Filed 9-27-10; 8:45 am]

BILLING CODE 6560-50-P